DEPARTMENT OF COMMERCE

International Trade Administration

Energy and Infrastructure Mission to Saudi Arabia; Application Deadline Extended

AGENCY: International Trade Administration, Department of Commerce.

ACTION: Notice.

Timeframe for Recruitment and Applications

Mission recruitment will be conducted in an open and public manner, including publication in the Federal Register, posting on the Commerce Department trade mission calendar (http://www.ita.doc.gov/doctm/tmcal.html) and other Internet web sites, press releases to general and trade media, direct mail, notices by industry trade associations and other multiplier groups, and publicity at industry meetings, symposia, conferences, and trade shows.

The application deadline has been extended to September 30, 2010. The U.S. Department of Commerce will review all applications immediately after the deadline. We will inform applicants of selection decisions as soon as possible after September 30, 2010. Applications received after that date will be considered only if space and scheduling constraints permit.

Contacts

U.S. Commercial Service Domestic Contact:

Sean Timmins, 202-482-1841, Sean.Timmins@trade.gov.

Natalia Susak, 202-482-4423, Natalia.Susak@trade.gov.

U.S. Commercial Service Saudi Arabia Contacts:

Mr. Habeeb Saeed, U.S. Commercial Service Riyadh, Tel: 966-1-488-3800, Habeeb.Saeed@mail.doc.gov.

Mr. Ishtiaq Hussain, U.S. Commercial Service Dhahran, Tel: 966-3-330-3200, Ishtiaq.Hussain@mail.doc.gov.

Sean Timmins,
Global Trade Programs, Commercial Service Trade Missions Program.

[FR Doc. 2010-23037 Filed 9-15-10; 8:45 am]

BILLING CODE 3510-DS-P